DEPARTMENT OF THE TREASURY

Customs Service

Continuation of the National Customs Automation Program Prototype

AGENCY: U.S. Customs Service, Department of the Treasury.

ACTION: General notice.

SUMMARY: This document announces that funding has been made available to Customs for the continued operation of the National Customs Automation Program Prototype (NCAP/P). Consequently, notwithstanding publication of a recent notice announcing a scheduled termination of the NCAP/P due to a cessation of funding, funds have been made available and therefore the NCAP/P has remained in operation. The NCAP/P will continue to operate for the previously approved participants as long as funding remains available. Customs is no longer accepting new applications for participation in NCAP/P.

FOR FURTHER INFORMATION CONTACT: Keith Fleming, U.S. Customs Service, at (202) 927-1049, or Virginia Noordewier, U.S. Customs Service, at (202) 927-3296.

SUPPLEMENTARY INFORMATION:

Background

The vision of the Automated Commercial Environment (ACE) is to establish a Trade Compliance Process that achieves high levels of compliance and reduces the cycle time required for imports to clear Customs. The National Customs Automation Program Prototype (NCAP/P) is the prototype for the first implementation of this automated process.

On March 27, 1997, Customs published a notice in the Federal Register (62 FR 14731) announcing its intention to implement the NCAP/P on a test basis; on August 21, 1998, Customs published in the Federal Register (63 FR 44949) a notice which modified the test with updated procedures and which replaced the previous notice. On October 15, 1998, Customs also published in the Federal Register (63 FR 55426) a notice announcing the proposed expansion of the prototype to five additional ports of entry.

The NCAP/P plan called for a four-stage implementation of new cargo processing features over a period of up to three years. The NCAP/P commenced on April 27, 1998, with the implementation of the cargo release stage. On October 13, 1998, Customs implemented the second stage which provided for cargo release with examination. On February 10, 2000, Customs published a notice in the Federal Register (65 FR 6688) advising the public that, due to the cessation of necessary funding, the NCAP/P would conclude 30 days after publication of the notice and that, from that day forward, NCAP/P participants must revert to non-NCAP/P processing for all cargo shipments.

Following publication of the February 10, 2000, notice and prior to the scheduled termination date (March 13, 2000), funds became available for the continued operation of NCAP/P at its current locations through September 30, 2000. Each NCAP/P participant was individually advised by Customs that, due to this new availability of funds, the NCAP/P would not conclude as stated in the February 10, 2000, notice. The purpose of this notice is to advise the general public of the continued operation of the prototype.

Continuation of NCAP/P

For the reasons stated above, the NCAP/P has remained in operation at its current locations and will continue to operate for previously approved participants through September 30, 2000, or for any longer period during which funds for the operation of NCAP/P are available. Customs is not accepting new applications for participation in the NCAP/P.

Dated: March 24, 2000.
Robert J. McNamara,
Acting Assistant Commissioner, Office of Field Operations.

[FR Doc. 00-7801 Filed 3-29-00; 8:45 am]

BILLING CODE 4820-02-P